DEPARTMENT OF TRANSPORTATION

Notice of Final Federal Agency Actions on Proposed Highway Projects in Texas

AGENCY: Texas Department of Transportation (TxDOT), Federal Highway Administration (FHWA), U.S. Department of Transportation.

ACTION: Notice of limitation on claims for Judicial Review of Actions by TxDOT and federal agencies.

SUMMARY: This notice announces actions taken by TxDOT and Federal agencies that are final. The environmental review, consultation, and other actions required by applicable Federal environmental laws for these projects are being, or have been, carried-out by TxDOT pursuant to a Memorandum of Understanding dated December 16, 2014, and executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway project will be barred unless the claim is filed on or before July 29, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Bicentennial Boulevard Extension Project from SH 107 to Trenton Road, Hidalgo County, Texas. The proposed project would extend Bicentennial Boulevard from SH 107 to Trenton Road as a new location, four-lane facility. The length of the proposed project is approximately 2.86 miles. The actions by TxDOT and Federal agencies and the laws under which such actions were taken are described in the Final Environmental Assessment approved on October 25, 2018, the Finding of No Significant Impact was issued on December 19, 2018, and other documents in the TxDOT project file. The EA and other documents in the TxDOT project file are available by contacting TxDOT at the address provided above or the TxDOT Pharr District Office at 600 W US Expressway 83, Pharr, Texas 78577; telephone (956) 702-6102.

2. State Loop (SL) 336 South from Interstate Highway (IH) 45 to Farm to Market Road (FM) 1314 in Montgomery County, Texas. The proposed project would create a divided 4-lane facility by constructing a 2-lane roadway to the south of existing SL 336. The new lanes would serve as the east bound lanes, with the existing lanes being converted to serve west bound traffic. The project length is approximately 2.5 miles. The actions by TxDOT and Federal agencies and the laws under which such actions were taken are described in the Categorical Exclusion Determination issued on September 28, 2018 and other documents in the TxDOT project file. The Categorical Exclusion Determination and other documents in the TxDOT project file are available by contacting TxDOT at the address provided above or the TxDOT Houston District Office located at 7600 Washington Avenue, Houston, Texas 77007; telephone (713) 802-5076.

3. Farm to Market Road (FM) 1488, Magnolia Relief Route, from existing FM 1488 west of Magnolia to proposed State Highway (SH) 249 east of Magnolia in Montgomery County, Texas. The proposed action would construct an east-west facility on new location to serve as a major arterial for the distribution of traffic around the city of Magnolia. This facility would consist of a four-lane divided facility. The project length is approximately 5.4 miles. The actions by TxDOT and Federal agencies and the laws under which such actions were taken are described in the Final Environmental Assessment (EA) approved on October 23, 2018, the Finding of No Significant Impact (FONSI) issued on October 25, 2018, and other documents in the TxDOT project file. The EA, FONSI, and other documents in the TxDOT project file are available by contacting TxDOT at the address provided above or the TxDOT Houston District Office located at 7600 Washington Avenue, Houston, Texas 77007; telephone (713) 802-5076.

4. I-35 from the Guadalupe River to FM 1103, Comal County, Texas. The project includes operational improvements to the I-35 interchanges with FM 1103/Hubertus Road, Schwab Road, Engel Road, Solms Road, Loop 337/Rueckle Road, Business 35/Schmidt Avenue, Walnut Avenue, and FM 725. Improvements would include intersection improvements, ramp reconfigurations and the addition of auxiliary lanes along the I-35 mainlanes and frontage road reconstruction. The project is approximately 9.25 miles in length. The actions by TxDOT and Federal agencies and the laws under which such actions were taken are described in the Categorical Exclusion Determination issued on November 20, 2018. The Categorical Exclusion Determination and other documents in the TxDOT project file are available by contacting TxDOT at the address provided above or the TxDOT San Antonio District Office at 4615 NW Loop 410, San Antonio, TX 78229; telephone (210) 615-5839.

5. State Loop 1604 from IH 10 East to FM 1346 (Houston Street), Bexar County, Texas. The project would widen the existing 2-lane undivided roadway to a 4-lane divided roadway. The project is approximately 3.9 miles in length. The actions by TxDOT and Federal agencies and the laws under which such actions were taken are described in the Categorical Exclusion Determination issued on November 30, 2018, and other documents in the TxDOT project file. The Categorical Determination and other documents in the TxDOT project file are available by contacting TxDOT at the address provided above or the TxDOT San Antonio District Office at 4615 NW Loop 410, San Antonio, TX 78229; telephone (210) 615-5839.

6. SH 46 from Farhills Drive to FM 3159, Comal County, Texas. The project would widen the roadway from its existing two-lane highway to two different configurations. The curbed with storm drain configuration, constructed in the more developed areas, would consist of six 11-foot travel lanes with a 16-foot raised median. The other configuration, a curbed with grasslined open-ditch configuration, would be constructed in less developed areas and would consist of six 11-foot travel lanes with a 16-foot raised median. The project is approximately 6 miles in length. The actions by TxDOT and Federal agencies and the laws under which such actions were taken are described in the Final Environmental Assessment (EA) approved on October 26, 2018, Finding of No Significant Impact (FONSI) issued on October 26, 2018, and other documents in the TxDOT project file. The EA, FONSI and other documents in the TxDOT project file are available by contacting TxDOT at the address provided above or the TxDOT San Antonio District Office at 4615 NW Loop 410, San Antonio, TX 78229; telephone (210) 615-5839.

7. US 290/SH 71 West from State Loop 1 (MoPac) to west of RM 1826 and US 290 to Silvermine Drive, Travis County, Texas. The project, known as the Oak Hill Parkway (OHP) project, proposes improvements that include direct connectors at the intersection of US 290 and SH 71, controlled access along both highways in Oak Hill with frontage roads, and an overpass for US 290 at William Cannon Drive. New construction on roadway improvements would begin just east of Joe Tanner Lane where the existing mainlanes transition to an urban highway. The mainlanes would be elevated over William Cannon Drive, and the westbound mainlanes and frontage road would be located north of Williamson Creek. The mainlanes would be depressed under SH 71 and direct connectors would be provided, connecting eastbound SH 71 with US 290, and westbound US 290 to SH 71. Mainlanes would vary from four near William Cannon Drive to two near the western project limit. Grade-separated intersections would be constructed at Convict Hill Road, RM 1826, Scenic Brook Drive, and Circle Drive (Southview Road). Along SH 71, the direct connector ramps would extend past Scenic Brook Drive where the mainlanes would then transition to a five-lane (three lanes northbound, two lanes southbound) rural highway. The actions by TxDOT and Federal agencies and the laws under which such actions were taken are described in the Final Environmental Impact Statement (FEIS) approved on December 21, 2018 and Record of Decision (ROD) issued on December 21, 2018, and other documents in the TxDOT project file. The FEIS, ROD and other documents in the TxDOT project file are available by contacting TxDOT at the address provided above or the TxDOT Austin District Office at 7901 North I-35, Austin, TX 78753; telephone (512) 832-7000. The EIS and ROD can also be viewed and downloaded from the following website: www.oakhillparkway.com.

8. SH 78 at Gaston Avenue in Dallas County, Texas. The proposed project would reconfigure the intersection of SH 78 (East Grand Avenue/Garland Road) at Gaston Avenue in the City of Dallas, Dallas County, Texas. The proposed facility would be reconfigured as a fully signalized, reverse T-intersection with East Grand Avenue intersecting Gaston Avenue and Garland Road. The length of the proposed project is approximately 0.76 miles. The purpose of the proposed project is to improve traffic operations and mobility, as well as to improve safety and to provide improved bicycle and pedestrian accommodations. The actions by TxDOT and Federal agencies and the laws under which such actions were taken are described in the Final Categorical Exclusion Determination issued on December 21, 2018, and other documents in the TxDOT project file. The Categorical Exclusion Determination and other documents in the TxDOT file are available by contacting TxDOT at the address provided above or the TxDOT Dallas District Office at 4777 E Highway 80, Mesquite, TX 75150; telephone: (214) 320-4480.

9. SH 158 at SH 137 in Glasscock County, Texas. The proposed project would construct an overpass on SH 158 over SH 137. The purpose of the project is to allow for traffic to move through the intersection with less congestion. The actions by TxDOT and Federal agencies and the laws under which such actions were taken are described in the Categorical Exclusion Determination issued on September 4, 2018, and other documents in the TxDOT project file. The Categorical Exclusion Determination and other documents in the TxDOT project file are available by contacting TxDOT at the address provided above or the TxDOT San Angelo District Office at 4502 Knickerbocker Road, San Angelo, Texas, 76904; telephone (325) 947-9266.

10. IH 10 from FM 3538 to FM 2761 in Colorado and Austin Counties, Texas. The proposed project would add an additional main lane in each direction along IH 10. The proposed project would also convert existing two way frontage roads to one way frontage roads. The purpose of the project is to improve mobility and increase safety along this section of I-10. The actions by TxDOT and Federal agencies and the laws under which such actions were taken are described in the Categorical Exclusion Determination issued on November 8, 2018, and other documents in the TxDOT project file. The Categorical Exclusion Determination and other documents in the TxDOT project file are available by contacting TxDOT at the address provided above or the TxDOT Yoakum District Office at 403 Huck St., Yoakum, TX 77995; telephone (361) 293-4436.

11. SL 121 from FM 439 to I-35 in Bell County, Texas. The proposed project would widen SL 121 from 2 to 4 lane divided roadway with bike/pedestrian improvements. The proposed project is needed to improve traffic safety, alleviate congestion, improve access management, and to provide pedestrian/bicycle accommodations. The actions by TxDOT and Federal agencies and the laws under which such actions were taken are described in the Categorical Exclusion Determination issued on December 12, 2018 and other documents in the TxDOT project file. The Categorical Exclusion Determination and other documents in the TxDOT project file are available by contacting TxDOT at the address provided above or the TxDOT Waco District Office at 100 S Loop Dr., Waco, TX 76704; telephone (254) 867-2705.

12. SH6/SL340 from US 84 to IH 35 in McLennan County, Texas. The proposed project would construct continuous frontage roads and four overpasses. The proposed project length is 2.68 miles. The actions by TxDOT and Federal agencies and the laws under which such actions were taken are described in the Categorical Exclusion Determination issued December 14, 2018, and other documents in the TxDOT project file. The Categorical Exclusion Determination and other documents in the TxDOT project file are available by contacting TxDOT at the address provided above or the TxDOT Waco District Office at 100 S Loop Dr., Waco, TX 76704; telephone (254) 867-2705.

13. Loop 338 Overpass at East Yukon Rd, Ector County, Texas. The proposed improvements would include the construction of an overpass on SL 338 at the intersection of E. Yukon Rd. The project would be approximately 2.0 miles in length. The project would help improve mobility on Loop 338. The actions by TxDOT and Federal agencies and the laws under which such actions were taken are described in the Categorical Exclusion Determination issued on September 7, 2018, and other documents in the TxDOT project file. The Categorical Exclusion Determination and other documents in the TxDOT project file are available by contacting TxDOT at the address provided above or the TxDOT Odessa District Office at 3901 East Highway 80, Odessa, Texas 79761; telephone (432) 498-4746.

14. Loop 250 at CR 1150 and CR 60, Midland County, Texas. The proposed project consists of extending main lanes and constructing access ramps and two overpasses between the existing frontage roads, on SL 250 from 0.5 miles west of County Road (CR) 1150 to 0.5 miles east of CR 60. The project would be approximately 1.0 mile in length. The project would help improve mobility on Loop 250 at the intersections of CR 1150 and CR 60. The actions by TxDOT and Federal agencies and the laws under which such actions were taken are described in the Categorical Exclusion Determination issued on September 19, 2018, and other documents in the TxDOT project file. The Categorical Exclusion Determination and other documents in the TxDOT project file are available by contacting TxDOT at the address provided above or the TxDOT Odessa District Office at 3901 East Highway 80, Odessa, Texas 79761, (432) 498-4746.

Authority: 23 U.S.C. 139(l)(1).

Issued on February 19, 2019.
Michael T. Leary,
Director, Planning and Program Development, Federal Highway Administration.

[FR Doc. 2019-03251 Filed 2-28-19; 8:45 am]

BILLING CODE 4910-22-P